DEPARTMENT OF COMMERCE

International Trade Administration

[A-570-836]

Notice of Extension of Time Limit of Final Results of New Shipper Review: Glycine from the People's Republic of China

AGENCY: Import Administration, International Trade Administration, U.S. Department of Commerce.

SUMMARY: The Department of Commerce (the Department) is extending the time limit for the final results of the new shipper review of the antidumping duty order on glycine from the People's Republic of China (PRC) until no later than July 23, 2004. The period of review is March 1, 2002, through February 28, 2003. This extension is made pursuant to section 751(a)(2)(B)(iv) of the Tariff Act of 1930, as amended (the Act).

EFFECTIVE DATE: May 26, 2004.

FOR FURTHER INFORMATION CONTACT: Christian Hughes or Matthew Renkey, AD/CVD Enforcement, Import Administration, International Trade Administration, U.S. Department of Commerce, 14th Street and Constitution Avenue, N.W., Washington D.C. 20230; telephone: (202) 482-0190 or (202) 482-2312, respectively.

SUPPLEMENTARY INFORMATION:

Background

On March 29, 1995, the Department published in the Federal Register an antidumping duty order on glycine from the PRC. See Antidumping Duty Order: Glycine from the People's Republic of China, 60 FR 16116 (March 29, 1995). In accordance with section 351.214(b) of the Department's regulations, on March 26, 2003, the Department received a timely request for a new shipper review from Hebei New Donghua Amino Acid Co. Ltd. (New Donghua). On

April 30, 2003, the Department initiated this new shipper review for the period March 1, 2002, through February 28, 2003. See Glycine from the People's Republic of China: Initiation of Antidumping New Shipper Review, 68 FR 23962 (May 6, 2003). The Department completed the preliminary results of this new shipper review on February 24, 2004. See Notice of Preliminary Results of Antidumping Duty New Shipper Review: Glycine from the People's Republic of China, 69 FR 9804 (March 2, 2004).

Extension of Time Limits for Final Results

Section 351.214(i)(1) of the Department's regulations requires the Department to issue final results of a new shipper review within 90 days after the date on which the preliminary results were issued. However, if the Secretary concludes that a new shipper review is extraordinarily complicated, the Secretary may extend the 90-day period to 150 days under section 351.214(i)(2) of the Department's regulations.

The Department finds that this new shipper review is extraordinary complicated, and the final results of this new shipper review cannot be completed within the normal time limit because of the issue surrounding the bona fide nature of the sales under review, and information presented to the Department for the first time at verification. Therefore, in accordance with section 751(a)(2)(B)(iv) of the Act and section 351.214(i)(2) of the Department's regulations, the Department is extending the time limit for the completion of final results to 150 days. The final results will now be due no later than July 23, 2004.

This notice is published pursuant to sections 751(a)(2)(B) and 777(i)(1) of the Act.

Dated: May 20, 2004.
Joseph A. Spetrini,
Deputy Assistant Secretary for Import Administration, Group III.

[FR Doc. 04-11914 Filed 5-25-04; 8:45 am]

BILLING CODE 3510-DS-S